DEPARTMENT OF DEFENSE

Department of the Army, Corps of Engineers

Intent To Prepare a Draft Environmental Impact Statement for the Proposed Kennecott Utah Copper LLC Tailings Expansion Project, Near Magna, Salt Lake County, UT, Permit Application Number SPK-2009-1213

AGENCY: Department of the Army, U.S. Army Corps of Engineers, DOD.

ACTION: Notice of Intent.

SUMMARY: The U.S. Army Corps of Engineers, Sacramento District (Corps), will prepare an Environmental Impact Statement (EIS) for the proposed Kennecott Utah Copper Tailings Expansion Project, an expansion of an active commercial mining operation near Magna, Salt Lake County, UT. Kennecott Utah Copper LLC (KUC) has applied for a Department of the Army (DA) permit to fill approximately 721 acres of waters of the United States, including wetlands, to construct the project. The basic project purpose is surface mining. The overall project purpose is to increase tailings storage capacity for future mine life extensions.

ADDRESSES: Please send written comments to John Urbanic, U.S. Army Corps of Engineers, Sacramento District, 533 West 2600 South, Suite 150, Bountiful, UT 84010.

FOR FURTHER INFORMATION CONTACT: Questions about the proposed action and EIS can be answered by John Urbanic, (801) 295-8380, extension 11; e-mail: john.e.urbanic@usace.army.mil. Please refer to identification number SPK-2009-01213.

SUPPLEMENTARY INFORMATION: KUC has applied for a DA permit under Section 404 of the Clean Water Act to expand their existing tailings impoundment and to construct an additional tailings storage facility (TSF) and related infrastructure on a 1992-acre parcel approximately ten miles west of Salt Lake City near the community of Magna, UT. The proposed action involves two phases that, according to the applicant, would provide the necessary tailings storage capacity to extend the life of the Bingham Canyon Mine (Mine) through 2039. In Phase 1 KUC would continue using the existing North TSF while increasing the height of the North TSF impoundment beyond the currently permitted design. KUC would also construct and begin using a new impoundment, the Northeast TSF, on adjacent KUC property to the east. In Phase 2 KUC would extend tailings deposition from the North TSF onto a portion of the existing South TSF. Ancillary work that would occur includes: the relocation of existing utilities (power, fiber optic, etc.), ditches, secondary or tertiary roads, and a 4-mile long segment of a railroad line; preparation of the foundation and placement of drainage blanket material under the embankment footprint for the Northeast TSF; construction of engineered structures (prior to placing tailings on the South TSF), dikes and ditches for the facilities; and modification of the tailings distribution and return water systems.

Approximately 774 acres of waters of the United States (waters), including wetlands, have been identified on the proposed project site. The area of impacted wetlands includes 488 acres of vegetated saline playa and 76.9 acres of emergent wetlands. Impacted non-wetland waters include 139.8 acres of unvegetated (< 5% vegetative cover) saline playa and 16.1 acres of other jurisdictional waters and drainages. In total, the applicant has applied for a DA permit to fill 565 acres of wetlands and 156 acres of non-wetland waters. In addition, the Corps will be evaluating supplemental delineation information characterizing approximately 200 additional acres of potential waters that may be impacted by ancillary work.

The EIS will include an evaluation of a reasonable range of alternatives. Currently, the following alternatives are expected to be analyzed in detail: (1) The no action alternative (no permit issued) and (2) the applicant's preferred project (proposed action). The no action alternative assumes limited development would occur on the site with all waters of the United States avoided. In addition to the proposed action, the Corps anticipates evaluating additional on-site and off-site alternatives for potential detailed analysis.

The Corps' scoping process for the EIS includes a public involvement program with several opportunities to provide oral and written comments. In addition to public meetings and notifications in the Federal Register, the Corps will issue public notices when the draft and final EISs are available. Affected federal, state, and local agencies, Native American tribes, and other interested private organizations and parties are invited to participate.

Potentially significant issues to be analyzed in the EIS include, but are not limited to impacts to waters, hydrology, water supply, water quality, cultural resources, biological resources, traffic and transportation, and air quality.

The Corps is the lead federal agency for preparation of the EIS under the requirements of the National Environmental Policy Act (NEPA). The Corps may invite other Federal, State, local agencies, and tribes to be cooperating agencies.

Other environmental review and consultation requirements for the proposed action include the need for the applicant to obtain water quality certification under Section 401 of the Clean Water Act from the Utah Division of Water Quality. The proposed project will not affect any federally listed threatened or endangered species; however, it may affect state-listed special status species. Once a habitat assessment of the areas has been completed, the Corps will consult with state and Federal wildlife agencies. In addition, the Corps will also be consulting with the State Historic Preservation Officer under Section 106 of the National Historic Preservation Act concerning properties listed, or potentially eligible for listing, on the National Register of Historic Places.

Interested parties may register for the Corps' public notice e-mail notification lists at: http://www.spk.usace.army.mil/regulatory/pnlist.html.

Public Scoping Meetings. The Corps will hold four public scoping meetings in several communities with proximity to the mining operation. The first meeting will be held on June 21, 2011, from 6-8:30 p.m. at the Webster Community Center, 8952 West 2700 South, Magna, Utah. The second meeting will be held on June 22, 2011, from 6-8:30 p.m. at Malouf Hall, Room 201, Westminster College, 1840 South 1300 East, Salt Lake City, Utah. The third meeting will be held on June 29, 2011, from 6-8:30 p.m. Hampton Inn and Suites, 3923 West Center Park Drive, West Jordan, Utah. The fourth meeting will be held on June 30, 2011, from 6-8:30 p.m. at Stansbury Park High School, 5300 North Aberdeen, Stansbury Park, Utah. Interested parties can provide oral and written comments at the meetings. Interested parties may also submit written comments on this notice. Scoping comments may be submitted at any time prior to publication of the Draft EIS.

Dated: June 2, 2011.
Andrew B. Kiger,
Lieutenant Colonel, U.S. Army, District Engineer.

[FR Doc. 2011-14560 Filed 6-10-11; 8:45 am]

BILLING CODE 3720-58-P